DEPARTMENT OF THE INTERIOR

National Park Service

Draft General Management Plan and Environmental Impact Statement for the First Ladies National Historic Site, Ohio

AGENCY: National Park Service.

ACTION: Notice of availability of the draft general management plan and draft environmental impact statement for the First Ladies' National Historic Site, Ohio.

SUMMARY: Pursuant to section 102(2)(C) of the National Environmental Policy Act of 1969, the National Park Service (NPS) announces the availability of the draft general management plan and environmental impact statement (GMP/EIS) for the First Ladies' National Historic Site (FILA).

DATES: The draft GMP/EIS will remain available for public review for 60 days following the publishing of the notice of availability in the Federal Register by the Environmental Protection Agency. Public meetings will be announced in the local media.

ADDRESSES: Copies of the GMP/EIS are available by request by writing to the First Ladies National Historic Site, c/o Site Manager, 8095 Mentor Avenue, Mentor, Ohio 44060, by telephoning 440-974-2993 or by e-mail to carol_j_spears@nps.gov. The document is also available to be picked up in person at the First Ladies National Historic Site, 331 Market Avenue South, Canton, Ohio 44702. The document can be found on the Internet in the NPS Planning Web site at: http://planning.nps.gov/plans.cfm.

FOR FURTHER INFORMATION CONTACT: Ms. Carol J. Spears, Site Manager, 8095 Mentor Avenue, Mentor, Ohio 44060, telephone 440-974-2993, or Sharon Miles, Job Captain, Midwest Regional Office, 601 Riverfront Drive, Omaha, NE 68102-4226, telephone 402-661-1850.

SUPPLEMENTARY INFORMATION: The FILA is owned by the NPS and operated by the National First Ladies' Library. The park encompasses the Ida Saxton McKinley House. The Education and Resource Center (formerly the City National Bank Building) is owned and operated by the National First Ladies' Library, and is part of the visitor experience at the park. The park was established to preserve and interpret the role and history of FILA.

The purpose of the general management plan is to set forth the basic management philosophy for the park and to provide strategies for addressing issues and achieving identified management objectives. The GMP/EIS describes and analyzes the environmental impacts of the proposed action and two other action alternatives for the future management direction of the park. A no-action alternative is also evaluated.

Our practice is to make comments, including names and home addresses of respondents, available for public review. Individual respondents may request that we withhold their home address from the record, which we will honor to the extent allowable by law. There may also be circumstances where we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: November 4, 2004.
Ernest Quintana,
Regional Director, Midwest Region.

[FR Doc. 04-28288 Filed 12-27-04; 8:45 am]

BILLING CODE 4312-86-P